SECURITIES AND EXCHANGE COMMISSION

[Release No. 34-81734; File No. SR-BatsBZX-2017-50]

Self-Regulatory Organizations; Bats BZX Exchange, Inc.; Notice of Withdrawal of a Proposed Rule Change To Extend the Implementation Date For Certain Changes to Exchange Rules 14.11 and 14.12

September 27, 2017.

On July 31, 2017, Bats BZX Exchange, Inc. (“Exchange”) filed with the Securities and Exchange Commission (“Commission”), pursuant to Section 19(b)(1) of the Securities Exchange Act of 1934 ¹ and Rule 19b-4 thereunder,² a proposed rule change to extend the implementation date for certain changes to Exchange Rules 14.11 and 14.12 relating to continued listing standards for exchange-traded products. The proposed rule change was published for comment in the Federal Register on August 18, 2017.³ The Commission received one comment letter on the proposed rule change.⁴ On September 22, 2017, the Exchange withdrew the proposed rule change (SR-BatsBZX-2017-50).

¹ 15 U.S.C. 78s(b)(1).

² 17 CFR 240.19b-4.

³ See Securities Exchange Act Release No. 81387 (August 14, 2017), 82 FR 39473.

⁴ See letter from Jane Heinrichs, Associate General Counsel, Investment Company Institute, to Brent J. Fields, Secretary, Commission, dated September 1, 2017.

For the Commission, by the Division of Trading and Markets, pursuant to delegated authority.⁵
⁵ 17 CFR 200.30-3(a)(12).
Eduardo A. Aleman,
Assistant Secretary.

[FR Doc. 2017-21160 Filed 10-2-17; 8:45 am]

BILLING CODE 8011-01-P